DEPARTMENT OF LABOR

Employment and Training Administration

Comment Request for Information Collection for Reporting and Performance Standards System for Migrant and Seasonal Farmworker Programs, Extension With Revision

AGENCY: Employment and Training Administration (ETA), Labor.

ACTION: Notice.

SUMMARY: The Department of Labor (Department), as part of its continuing effort to reduce paperwork and respondent burden, conducts a preclearance consultation program to provide the public and Federal agencies with an opportunity to comment on proposed and/or continuing collections of information in accordance with the Paperwork Reduction Act of 1995 [44 U.S.C. 3506(c)(2)(A)] (PRA). The PRA helps ensure that respondents can provide requested data in the desired format with minimal reporting burden (time and financial resources), collection instruments are clearly understood and the impact of collection requirements on respondents can be properly assessed. Currently, ETA is soliciting comments concerning the information collection request (ICR) to collect data about The National Farmworker Jobs Program (NFJP), which provides employment and training services as well as housing assistance to disadvantaged migrant and seasonal farmworkers (MSFWs) and their dependents.

Interested parties are encouraged to provide comments to the contact shown in the ADDRESS section. Comments must be written to receive consideration, and they will be summarized and included in the request for OMB approval of the final ICR. In order to help ensure appropriate consideration, comments should mention OMB Control No. 1205-0425.

DATES: Submit written comments to Gregory Scheib at the office listed in the address section below on or before January 26, 2016.

ADDRESSES: A copy of this ICR with applicable supporting documentation; including a description of the likely respondents, proposed frequency of response, and estimated total burden may be obtained free by contacting Gregory Scheib, Workforce Analyst for the National Farmworker Jobs Program, at NFJP@dol.gov, or by mail to Gregory Scheib, Room C-4510, Employment and Training Administration, U.S. Department of Labor, 200 Constitution Avenue NW., Washington, DC 20210. Telephone number: 202-693-2791 (this is not a toll-free number). Fax: 202-693-3015. Individuals with hearing or speech impairments may access the telephone number above via TTY by calling the toll-free Federal Information Relay Service at 1-877-889-5627 (TTY/TDD).

SUPPLEMENTARY INFORMATION:

I. Background

This grant program seeks to counter the impact of the chronic unemployment and underemployment experienced by MSFWs who depend primarily on jobs in agricultural labor. NFJP grant funds are awarded to community-based organizations and public agencies through a biennial grant competition.

NFJP grantees are required to submit a Program Planning Summary report (ETA Form 9094), a Program Status Summary report (ETA Form 9095), a Housing Assistance report (ETA Form 9164), a quarterly file of individual records on all participants who exit the program (Workforce Investment Act Standardized Participant Record (WIASPR), and a grant plan narrative. These reporting requirements encompass a minimum level of information collection that is necessary to hold grantees appropriately accountable for the Federal funds they receive, assess progress against a set of common performance measures, and allows the Department to fulfill its oversight and management responsibilities. ETA proposes eliminating the Budget Information Summary Form, ETA 9093, currently submitted by grantees as part of annual program plan updates. ETA believes the information collected on this form is not essential to monitor grantee expenditures; moreover, information on prior year funds exists on ETA 9130 (OMB Control No. 1205-0461), a form already required for grantees. Discontinuation of this form will reduce the total estimated annual reporting burden on each NFJP grantees by 15 hours per year.

II. Review Focus

The Department is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of response.

III. Current Actions

• Agency: DOL-ETA.

• Type of Review: extension with change.

• Title of Collection: Reporting and Performance Standards System for Migrant and Seasonal Farmworker Programs.

• Forms: ETA 9094, 9095, and 9165 (housing assistance).

• OMB Control Number: 1205-0425.

• Affected Public: State, local, and tribal governments.

• Estimated Number of Respondents: 69.

• Frequency: quarterly.

• Total Estimated Annual Responses: 29,897.

• Estimated Total Annual Burden Hours: 73,279 hours.

• Total Estimated Annual Other Cost Burden: $0.

We will summarize and/or include in the request for OMB approval of the ICR, the comments received in response to this comment request; they will also become a matter of public record.

Portia Wu,
Assistant Secretary for Employment and Training, Labor.

[FR Doc. 2015-30175 Filed 11-25-15; 8:45 am]

BILLING CODE 4510-FN-P